DEPARTMENT OF LABOR

Occupational Safety and Health Administration

[Docket No. ICR-1218-0238(2000)]

Standard on Portable Fire Extinguishers; Extension of the Office of Management and Budget's (OMB) Approval of an Information Collection (Paperwork) Request

AGENCY: Occupational Safety and Health Administration (OSHA), Labor.

ACTION: Notice of an opportunity for public comment.

SUMMARY: OSHA solicits comments concerning the proposed increase in, and extension of, the information collection requirements contained in paragraph (e)(3) of the standard on Portable Fire Extinguishers, 29 CFR 1910.157.

REQUEST FOR COMMENT: The Agency seeks comments on the following issues:

• Whether the information collection requirement is necessary for the proper performance of the Agency's functions, including whether the information is useful;

• The accuracy of the Agency's estimate of the burden (time and costs) of the information collection requirement, including the validity of the methodology and assumptions used;

• The quality, utility, and clarity of the information collected; and

• Ways to minimize the burden on employers who must comply; for example, by using automated or other technological information transmission and collection techniques.

DATE: Submit written comments on or before January 30, 2001.

ADDRESSES: Submit written comments to the Docket Office, Docket No. ICR-1218-0238(2000), Occupational Safety and Health Administration, U.S. Department of Labor, Room N-2625, 200 Constitution Avenue, NW., Washington, DC 20210; telephone: (202) 693-2350. Commenters may transmit written comments of 10 pages or less in length by facsimile to (202) 693-1648.

FOR FURTHER INFORMATION CONTACT: Theda Kenney, Directorate of Safety Standards Programs, Occupational Safety and Health Administration, U.S. Department of Labor, Room N-3609, 200 Constitution Avenue, NW., Washington, DC 20210; telephone: (202) 693-2222. A copy of the Agency's Information collection Request (ICR) supporting the need for the information collection requirement contained in paragraph (e)(3) of the standard is available for inspection and copying in the Docket Office, or mailed on request by telephoning Theda Kenney at (202) 693-2222 or Barbara Bielaski at (202) 693-2444. For electronic copies of the ICR, contact OSHA on the Internet at http://www.osha.gov/comp-links.html, and click on “Information Collection Requests.”

SUPPLEMENTARY INFORMATION:

I. Background

The Department of Labor, as part of its continuing effort to reduce paperwork and respondent burden, conducts a preclearance consultation program to provide the general public and government agencies with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information collection burden is correct. The Occupational Safety and Health Act of 1970 (the Act) authorizes information collection by employers as necessary or appropriate for enforcement of the Act or for developing information regarding the causes and prevention of occupational injuries, illnesses, and accidents. (29 U.S.C. 657.)

Paragraph (e)(3) of the standard on Portable Fire Extinguishers (29 CFR 1910.157) specifies that employers must subject each portable fire extinguisher to an annual maintenance inspection and record the date of the inspection. In addition, this provision requires employers to retain the inspection record for one year after the last entry or for the life of the shell, whichever is less, and to make the record available to OSHA on request. This recordkeeping requirement assures employees and Agency compliance officers that portable fire extinguishers located in the workplace will operate normally in case of fire; in addition, this requirement provides evidence to OSHA compliance officers during an inspection that the employer performed the required maintenance checks on the portable fire extinguishers.

II. Proposed Actions

OSHA proposes to increase the existing burden hour estimate, and to extend OMB's approval, of the collection-of-information requirement specified by paragraph (e)(3) of its standard on Portable Fire Extinguishers (29 CFR 1910.157). In this regard, the Agency is increasing the burden hours associated with the collection of information requirement by 2,250 hours (from the current total of 63,750 burden hours to a new total of 66,000 burden hours). This adjustment resulted from an increase in the estimated number of employers (and, therefore, the number of portable fire extinguishers) covered by the requirement. An adjustment also occurred in the cost of servicing portable fire extinguishers under contract; accordingly, the contract-servicing cost increased from the current estimate of $9,180,000 to a new estimate of $19,008,000. OSHA will summarize the comments submitted in response to this notice, and will include this summary in the request to OMB to extend the approval of the information collection requirement contained in the standard on Portable Fire Extinguishers.

Type of Review: Extension of currently approved information collection requirement.

Title: Portable Fire Extinguishers (29 CFR 1910.157).

OMB Number: 1218-0238.

Affected Public: Business or other for-profit; not-for-profit institutions; Federal government; state, local or tribal governments

Number of Respondents: 132,000.

Frequency: Annually.

Average Time per Response: 30 minutes (0.50 hour).

Estimated Total Burden Hours: 66,000.

Estimated Cost (Operation and Maintenance): $19,008,000.

III. Authority and Signature

Charles N. Jeffress, Assistant Secretary of Labor for Occupational Safety and Health, directed the preparation of this notice. The authority for this notice is the Paperwork Reduction Act of 1995 (44 U.S.C. 3506), Secretary of Labor's Order No. 3-2000 (65 FR 50017).

Signed at Washington, DC on November 21, 2000.
Charles N. Jeffress,
Assistant Secretary of Labor.

[FR Doc. 00-30644 Filed 11-30-00; 8:45 am]

BILLING CODE 4510-26-U